ENVIRONMENTAL PROTECTION AGENCY

40 CFR Part 300

[FRL-7668-4]

National Oil and Hazardous Substances Pollution Contingency Plan; National Priorities List

AGENCY: Environmental Protection Agency.

ACTION: Notice of deletion for the Combe Fill North Landfill Superfund site from the National Priorities List.

SUMMARY: The U.S. Environmental Protection Agency (EPA) Region II Office announces the deletion of the Combe Fill North Landfill Superfund site from the National Priorities List (NPL). The Combe Fill North Landfill site is located in Mount Olive Township, Morris County, New Jersey. The NPL constitutes Appendix B to the National Oil and Hazardous Substances Pollution Contingency Plan (NCP), 40 CFR part 300, which EPA promulgated pursuant to section 105 of the Comprehensive Environmental Response, Compensation, and Liability Act of 1980 (CERCLA), as amended. EPA and the State of New Jersey, through the Department of Environmental Protection, have determined that all appropriate remedial actions have been completed at the Combe Fill North Site and no further fund-financed remedial action is appropriate under CERCLA. In addition, EPA and the State of New Jersey have determined that the remedial actions taken at the Combe Fill North Site protect public health and the environment without any further monitoring or restriction.

EFFECTIVE DATE: June 2, 2004.

FOR FURTHER INFORMATION CONTACT: Ms. Pamela J. Baxter, Remedial Project Manager, U.S. Environmental Protection Agency, Region II, 290 Broadway, 19th Floor, New York, New York 10007-1866, (212) 637-4416.

SUPPLEMENTARY INFORMATION: To be deleted from the NPL is: the Combe Fill North Landfill Superfund site, Mount Olive Township, Morris County, New Jersey. A Notice of Intent to Delete for the Combe Fill North Landfill site was published in the Federal Register on February 24, 2004 (69 FR 8353). The closing date for comments on the Notice of Intent to Delete was March 25, 2004. EPA received no comments regarding this action. EPA identifies sites that appear to present a significant risk to public health, welfare, or the environment and it maintains the NPL as the list of those sites. As described in § 300.425(e)(3) of the NCP, any site or portion thereof deleted from the NPL remains eligible for remedial actions in the unlikely event that conditions at the site warrant such action in the future. Deletion of a site from the NPL does not affect responsible party liability or impede agency efforts to recover costs associated with response efforts.

List of Subjects in 40 CFR Part 300

Environmental protection, Air pollution control, Chemicals, Hazardous substances, Hazardous waste, Intergovernmental relations, Penalties, Reporting and Recordkeeping requirements, Superfund, Water pollution control, Water supply.

Dated: May 19, 2004.
Jane M. Kenny,
Regional Administrator—Region II.

For the reasons set out in the preamble, part 300, title 40 of Chapter I of the Code of Federal Regulations, is amended as follows:

PART 300—[AMENDED]

1. The authority citation for part 300 continues to read as follows:

Authority: 42 U.S.C. 9601-9657; 33 U.S.C. 1321(c)(2); E.O. 12777, 56 FR 54757, 3 CFR., 1991 Comp., p. 351; E.O. 12580, 52 FR 2923, 3 CFR, 1987 Comp., p. 193.

Appendix B—[Amended]

2. Table 1 of Appendix B to Part 300 is amended by removing the entry for “Combe Fill North Landfill, Mount Olive Township, New Jersey.”

[FR Doc. 04-12301 Filed 6-1-04; 8:45 am]

BILLING CODE 6560-50-P